FEDERAL COMMUNICATIONS COMMISSION

47 CFR Part 73

[DA 00-210; MM Docket No. 96-11, RM-8742]

Television Broadcasting Services; (Waverly, New York and Altoona, PA)

AGENCY: Federal Communications Commission.

ACTION: Final rule; denial of petition of reconsideration.

SUMMARY: This document dismisses the petition for reconsideration filed by WSKG Public Television Council and denies the petition for reconsideration filed by Renard Communications of the action taken in our Report and Order, 61 FR 53644 (1996) allotting Channel *57-to Waverly, New York as a noncommercial channel. In light of action taken in the DTV allotment proceedings petitioners' arguments were either speculative and unsupported or moot. With this action, the proceeding is terminated.

FOR FURTHER INFORMATION CONTACT: Arthur D. Scrutchins, Mass Media Bureau, (202) 418-2180.

SUPPLEMENTARY INFORMATION: This is a synopsis of the Commission's Memorandum Opinion and Order, MM Docket No. 96-11, adopted January 27, 2000 and released February 4, 2000. The full text of this Commission decision is available for inspection and copying during normal business hours in the FCC Reference Information Center (Room CY-A257), at its headquarters, 445 12th Street S.W., Washington, D.C. The complete text of this decision may also be purchased from the Commission's copy contractors, International Transcription Service, Inc., (202) 857-3800, 1231 20th Street N.W., Washington, D.C. 20036.

List of Subjects in 47 CFR Part 73

Television broadcasting.

Federal Communications Commission.
John A. Karousos,
Chief, Allocations Branch, Mass Media Bureau.

[FR Doc. 00-3639 Filed 2-15-00; 8:45 am]

BILLING CODE 6712-01-P